NATIONAL SCIENCE FOUNDATION

Agency Information Collection Activities: Comment Request; Office of Small and Disadvantaged Business Utilization Vendor Information Form

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by April 11, 2022 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Office of Small and Disadvantaged Business Utilization Vendor Outreach Form.

OMB Control No.: 3145-New.

Expiration Date of Approval: Not applicable.

Abstract: The purpose of the National Science Foundation's (NSF) Office of Small and Disadvantaged Business Utilization (OSDBU) Vendor Information form is to collect vendor contact information (company name, point of contact name, email address, phone number), along with identifiers such as NAICS codes, SAM ID, DUNS#, description of supplies/services, and Socio-economic indicator. This will assist the NSF OSDBU in maintaining a database of small businesses that can provide supplies and/or services for requirements listed on the NSF Acquisition Forecast. Collecting this information supports the mission of the OSDBU, as outlined in section 15k of the Small Business Act, and ensures that small businesses can participate in NSF acquisitions to the maximum extent practicable. In addition, the Biden Administration has made it a priority to ensure equity in federal contracting via Executive Order 13985, Advancing Racial Equity and Support for Underserved Communities through the Federal Government, and implemented in OMB M-22-03, Advancing Equity in Federal Procurement. The President directed federal agencies to make Federal contracting and procurement opportunities more readily available to all eligible vendors and charged every agency to assess available tools to increase opportunities for small businesses and underserved entrepreneurs to compete for Federal contracts. This form will allow us to reach vendors, to a greater extent, through our external website on NSF.gov and participation in various conferences and conventions, which ensures NSF complies with these mandates.

Respondents: Small and disadvantaged businesses.

Estimated Number of Annual Respondents: 275.

Burden on the Public: Estimated 15 minutes to fill out the form, including the collection of data to fill in the fields. This information should be readily available as most companies have capability statements that include this information. The estimated burden time is 69 hours.

Dated: February 7, 2022.
Suzanne H. Plimpton,
Reports Clearance Officer, National Science Foundation.

[FR Doc. 2022-02895 Filed 2-9-22; 8:45 am]

BILLING CODE 7555-01-P